DEPARTMENT OF COMMERCE

National Oceanic and Atmospheric Administration

Marine Mammals and Endangered Species

AGENCY: National Marine Fisheries Service (NMFS), National Oceanic and Atmospheric Administration (NOAA), Commerce.

ACTION: Notice; issuance of permits and permit amendments.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Shasta McClenahan (Permit No. 18786-04), Sara Young (Permit No. 23197) and Carrie Hubard (Permit No. 23117); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
18786-04 | 0648-XD900 | NMFS Office of Protected Resources, Marine Mammal Health and Stranding Response Program, 1315 East West Highway, Silver Spring, MD 20910 (Responsible Party: Teri Rowles, D.V.M., Ph.D.) | 84 FR 21332; May 14, 2019 | October 3, 2019.
23117 | 0648-XR031 | BBC Worldwide Americas, 1120 Avenue of the Americas, New York, NY 10036 (Responsible Party: Orla Doherty) | 84 FR 45997; September 3, 2019 | October 24, 2019.
23197 | 0648-XR038 | Wildstar Films, South Parade Mansions, 71 Oakfield Road, Bristol BS8 2BB, U.K. (Responsible Party: Hugh Pearson) | 84 FR 47499; September 10, 2019 | October 17, 2019.

In compliance with the National Environmental Policy Act (NEPA) of 1969 (42 U.S.C. 4321 et seq.), a final determination has been made that the activities proposed for Permit Nos. 23117 and 23197 are categorically excluded from the requirement to prepare an environmental assessment (EA) or environmental impact statement.

For Permit No. 18786-04, an EA was prepared for the original permit in compliance with NEPA, to examine whether significant environmental impacts could result from issuance of the proposed scientific research permit. Based on the analyses in the EA, NMFS determined that issuance of the original permit would not significantly impact the quality of the human environment and that preparation of an environmental impact statement was not required. That determination was documented in a Finding of No Significant Impact (FONSI), signed on June 29, 2015. The activities in the amendment are consistent with the analyses in the original EA and no additional NEPA analysis was required for the issuance of this amendment. The original EA and FONSI are available upon request.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: November 14, 2019.
Julia Marie Harrison,
Chief, Permits and Conservation Division, Office of Protected Resources, National Marine Fisheries Service.

[FR Doc. 2019-25078 Filed 11-19-19; 8:45 am]

BILLING CODE 3510-22-P